DEPARTMENT OF HEALTH AND HUMAN SERVICES

Administration for Children and Families

Proposed Information Collection Activity; Comment Request

Proposed Projects: Immediate Disaster Case Management Intake Assessment (hardcopy and electronic versions).

Title: Immediate Disaster Case Management Intake Assessment.

OMB No.: 0970—NEW.

Description: Section 426 of the Robert T. Stafford Disaster Relief and Emergency Assistance Act (Stafford Act), as amended, 42 U.S.C. 5189d authorizes the Federal Emergency Management Agency (FEMA) and the U.S. Department of Health Services' Administration for Children and Families (ACF) to provide Immediate Disaster Case Management (IDCM) services under the federal Disaster Case Management Program (DCMP).

The use of the Electronic Case Management Record System (ECMRS) is aligned with Executive Order of the President 13589 and the memorandum to the Heads of Executive Departments and Agencies M-12-12 from the Office of Management and Budget to “Promote Efficient Spending to Support Agency Operations.”

The primary purpose of the information collection pertains to ACF/OHSEPR's initiative to improve the intake process and delivery of case management services to individuals and households impacted by a disaster. Further, the information collection will be used to support ACF/OHSEPR's goal to quickly identify critical gaps, resources, needs, and services to support State, local and non-profit capacity for disaster case management and to augment and build capacity where none exists. All information gathered will be exclusively used to inform the delivery of disaster case management services and programmatic strategies and improvements.

Respondents: Individuals impacted by a disaster.

Annual Burden Estimates
Instrument | Number of respondents | Number of responses per respondent | Burden hours per response | Total burden hours
IDCM Intake Assessment | 3,500 | 1 | 40 minutes | 2,333

Estimated Total Annual Burden Hours: 2,333 hours or 140,000 minutes.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW, Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2018-03105 Filed 2-14-18; 8:45 am]

BILLING CODE 4184-01-P